DEPARTMENT OF LABOR

Employment and Training Administration

[TA-W-40,614]

Port Townsend Paper Corporation, Portland, OR; Notice of Termination of Investigation

Pursuant to section 221 of the Trade Act of 1974, an investigation was initiated on January 22, 2002, in response to a worker petition which was filed by workers at Port Townsend Paper Corporation in Portland, Oregon.

The petitioning workers have formally withdrawn the petition and consequentially, further investigation in this case would serve no purposes, and the investigation has been terminated.

Signed in Washington, DC this 15th day of February, 2002.
Linda G. Poole,
Certifying Officer, Division of Trade Adjustment Assistance.

[FR Doc. 02-4726 Filed 2-27-02; 8:45 am]

BILLING CODE 4510-30-M